DEPARTMENT OF TRANSPORTATION

Federal Aviation Administration

14 CFR Part 97

[Docket No.: FAA-2017-0879]

RIN 2120-AA65

Criteria and Process for the Cancellation of Standard Instrument Approach Procedures as Part of the National Procedures Assessment (NPA)

AGENCY: Federal Aviation Administration (FAA), Department of Transportation (DOT).

ACTION: Statement of policy.

SUMMARY: The Federal Aviation Administration (FAA) is finalizing specific criteria to guide the identification and selection of appropriate circling procedures that can be considered for cancellation. These procedures include certain circling procedures (to include circling-only instrument approach procedures (IAPs) and circling minima charted on straight-in IAPs). The circling procedures associated with this cancellation initiative will be selected based on the criteria outlined in this statement of policy. This document is not a part of the FAA's VOR minimum operating network (MON) initiative.

DATES: This statement of policy is effective July 30, 2018.

ADDRESSES: For information on where to obtain copies of rulemaking documents and other information related to this statement of policy, see “How To Obtain Additional Information” in the SUPPLEMENTARY INFORMATION section of this document.

FOR FURTHER INFORMATION CONTACT: Lonnie Everhart, Aeronautical Information Services, AJV-5, Federal Aviation Administration, Air Traffic Organization, 6500 S. MacArthur Blvd., Oklahoma City, OK 73169; Telephone (405) 954-4576; Email AMC-ATO-IFP-Cancellations@faa.gov.

SUPPLEMENTARY INFORMATION:

I. Authority for This Rulemaking

Under 49 U.S.C. 40103(a), the Administrator has broad authority to regulate the safe and efficient use of the navigable airspace. The Administrator is also authorized to issue air traffic rules and regulations to govern the flight, navigation, protection, and identification of aircraft for the protections of persons and property on the ground and for the efficient use of the navigable airspace. 49 U.S.C. 40103(b). Under section 44701(a)(5), the Administrator promotes safe flight of civil aircraft in air commerce by prescribing regulations and minimum standards for other practices, methods, and procedures necessary for safety in air commerce and national security. This action is within the scope of that authority.

SIAPs are promulgated by rulemaking procedures and are incorporated by reference pursuant to 5 U.S.C. 552(a) and 1 CFR part 51 into Title 14 of the Code of Federal Regulations; Part 97 (14 CFR part 97), Subpart C—TERPS Procedures.

II. Background

The National Airspace System (NAS) is currently in transition to a “NextGen NAS.” During this transition, the FAA is managing the technology and procedures to support both the legacy (NavAid-based) NAS as well as the NextGen (satellite-based) NAS. As new technology has facilitated the introduction of area navigation (RNAV) instrument approach procedures over the past decade, the number of procedures available in the NAS has nearly doubled. The complexity and cost to the FAA of maintaining the instrument flight procedures inventory while expanding the new RNAV capability is not sustainable. Managing two versions of the NAS requires excess manpower, infrastructure, and information management which is costly and unsupportable in the long-term. To mitigate these costs, the FAA has a number of efforts underway to effectively transition from the legacy to the NextGen NAS. One area of focus for this transition is instrument flight procedures (IFPs). The FAA seeks to ensure an effective transition from ground-based IFPs to greater availability and use of satellite-based IFPs while maintaining NAS safety.

In early 2015, the FAA requested the RTCA's Tactical Operations Committee (TOC) ¹ with providing recommendations on criteria and processes for cancelling instrument flight procedures. Among the many recommendations provided by the TOC were criteria to identify circling procedures that would qualify as candidates for cancellation. As of March 29, 2018, there are 12,068 IAPs in publication, consisting of 33,825 lines of minima, 11,701 of which are circling lines of minima. This represents a nearly 9 percent increase in IAP lines of minima from September 18, 2014. Circling procedures account for approximately one-third of all lines of minima for IAPs in the NAS.

¹ The TOC is a subcommittee comprised of FAA and industry representatives established under the RTCA advisory committee in accordance with the provisions of the Federal Advisory Committee Act (FACA).

In response to the unsustainable growth in the number of IFPs, the FAA requested feedback and recommendations from the RTCA TOC related to removing underutilized or unneeded IFPs to facilitate a transition to NextGen and reduce FAA maintenance costs related to IFPs. The task group assigned to study IFP reduction adopted the following guiding principles when considering their recommendations:

• Utilization was determined not to be a valid stand-alone criterion, as usage data can be inaccurate or unavailable in some cases and does not necessarily reflect the operational value of an IFP.

• Effort was focused on a NAS-level examination of public procedures maintained by the FAA. Additionally, specific criteria for special operating conditions, such as those in Alaska, where additional considerations may be required, should be developed apart from this effort.

• The FAA procedure reduction program is highly dependent upon and interwoven with other efforts such as VOR Minimum Operating Network (MON), the Performance Based Navigation (PBN) NAS Navigation Strategy effort and the ongoing rewrite of the Regional Airspace Procedures Team (RAPT) Order, and these efforts need to be synchronized as each effort progresses.

• Airways were deemed to be beyond the focus of this group's effort.

• When evaluating any procedure, air traffic personnel and operators should be involved.

Proposed Criteria

In its continued effort to right-size the NAS through optimization and elimination of redundant and unnecessary IAPs, on October 6, 2017, the FAA published a proposed policy and request for comment that identified the following criteria to guide the identification and selection of appropriate circling procedures to be considered for cancellation. 82 FR 46738.

The FAA proposed that all circling procedures will continue to be reviewed through the established IAP periodic review process.² As part of that review process, the FAA proposed that each circling procedure be evaluated against the following questions:

² Section 2-8 of FAA Order 8260.19 (Flight Procedures and Airspace) sets forth the minimum frequency of review of instrument procedures.

• Is this procedure a designated MON airport procedure?

• If multiple IAPs serve a single runway end, is this the lowest circling minima for that runway?

Note: If the RNAV circling minima is not the lowest, but is within 50' of the lowest, the FAA would give the RNAV preference.

• Would cancellation result in removal of circling minima from all conventional NAVAID procedures at an airport?

Note: If circling minima exists for multiple Conventional NAVAID procedures, preference would be to retain ILS circling minima.

• Would cancellation result in all circling minima being removed from all airports within 20 NM?

• Will removal eliminate lowest landing minima to an individual runway?

The following questions are applicable only to circling-only procedures:

• Does this circling-only procedure exist because of high terrain or an obstacle that makes a straight-in procedure unfeasible or which would result in the straight-in minimums being higher than the circling minima?

• Is this circling-only procedure (1) at an airport where not all runway ends have a straight-in IAP, and (2) does it have a Final Approach Course not aligned within 45 degrees of a runway which has a straight-in IAP?

The FAA proposed that further consideration for cancellation under this policy would be terminated if any of the aforementioned questions are answered in the affirmative. If all questions are answered in the negative, the procedure would be processed as described in the following paragraph.

When a candidate has been identified, Aeronautical Information Services would send a notification of procedure cancellation memorandum and completed checklist to the appropriate Regional Service Area, Operations Support Group.³ The Regional Service Area, Operations Support Group would follow the same notification process used for standard IFP requests.⁴ Consistent with FAA procedures outlined in the procedure cancellation memorandum, comments regarding the aforementioned circling procedure would need to be submitted within 30 days of the timestamp on the communication media through which it was delivered. Comments would be directed to the Regional Service Area, Operations Support Group for dissemination to Aeronautical Information Services. Comments would be adjudicated by Aeronautical Information Services within 30 days of the timestamp on the communication media through which it was received. A final decision would be forwarded to Regional Service Area, Operations Support Group to disseminate to commenter(s). The cancellation of the part 97 instrument procedure will be published in the Federal Register.

³ The FAA has placed sample copies of the memorandum and checklist into the docket for this document.

⁴ FAA Order 8260.43 (Flight Procedures Management Program) and FAA Order 8260.26 (Establishing Submission Cutoff Dates for Civil Instrument Procedures) contain additional information on this process. These orders are available on the FAA website.

In its proposed policy, the FAA noted that National Procedures Assessment (NPA) Instrument Flight Procedure (IFP) cancellation activities and associated criteria do not supersede similar activities being performed under the FAA's VOR MON Program. See 81 FR 48694 (July 26, 2016). However, NPA IFP cancellation activities have been coordinated with the FAA office responsible for the VOR MON implementation program, and its input has been thoroughly considered.

III. Discussion of Comments Received

The FAA received 11 comments pertaining to the proposed statement of policy. Commenters included the Aircraft Owners and Pilots Association (AOPA), National Business Aviation Association (NBAA), and nine individuals.

AOPA suggested adding language to the proposed policy to point out the cancellation criteria's consideration of circling procedures being required for pilot training and testing. AOPA expressed concern that flight procedures critical to part 142 training centers could be cancelled without the awareness of these training centers, and requested coordination with the National Simulator Program (and simulator operators) before any IFPs are cancelled to prevent adversely hindering simulator training and testing. AOPA also requested the FAA implement outreach recommendations made in the March 2016 RTCA NPA Report “Process and Criteria for Cancellation of Instrument Flight Procedures” ⁵ to ensure users and air traffic control are able to provide input prior to IFP cancellation decisions being made.

⁵ A copy of this report has been placed in the docket for this action.

Language has been added to one of the questions used to evaluate each circling procedure expressing awareness of the need to retain sufficient circling procedures to allow for instrument flight proficiency and training. That criterion now states, “Would cancellation result in all circling minima being removed from all airports within 20 NM?” This particular criteria recognizes the circling-related content of the Instrument Rating—Airplane Airman Certification Standards (ACS). Once a circling procedure is proposed for cancellation, it will be posted on the Instrument Flight Procedures Information Gateway (https://www.faa.gov/air_traffic/flight_info/aeronav/procedures/). This information will be provided to the National Simulator Program, Air Traffic Services, and the Operations Support Groups. This notification will enable them to maintain awareness of IFP-related actions, including proposed cancellations for circling procedures, and communicate this site's availability to their stakeholders for their awareness. Additionally, language has been added to the statement of policy that informs users how to access the FAA's Instrument Flight Procedures Information Gateway (IFP Gateway), through which they can be notified when there are proposed actions to instrument flight procedures at airports of their choosing. Users will be able to submit comments pertaining to proposed circling flight procedure cancellations, and each comment will be taken into consideration before a final determination is made.

NBAA requested the proposed policy be temporarily suspended while Flight Management Systems (FMS) issues that resulted in a number of IFPs being inadvertently eliminated from FMS IFP databases could be evaluated and considered with respect to the proposed policy.

The inadvertent removal of IFPs from certain FMS was unrelated to any action by the FAA with regard to IFP process. The NBAA's suggestion that the effective date of this policy be temporarily suspended or delayed while these FMS issues are addressed is not practical considering these criteria have been discussed, vetted via the RTCA TOC, in which NBAA has been a participant, and finally published in the 2016 RTCA Final NPA Report. Additionally, any circling procedure cancellations that result from implementation of this policy should not impact the probability of future FMS issues as mentioned in the NBAA's comment.

One commenter expressed approval of the cancellation of a circling procedure only if all runways accessible by the procedure have a straight-in IAP with lower minimums than those associated with the cancelled procedure. The individual also expressed the need for some circling procedures to remain in the NAS given the tasks and maneuvers of the Instrument Rating—Airplane Airman Certification Standards (ACS).

The FAA's policy is not intended to ensure straight-in IAPs for every runway end, but rather minimizing IFP redundancy in the NAS. The FAA acknowledges that with the cancellation of some circling procedures, there may be reduced airport accessibility, but no reduction in runway availability. To the extent that the commenter expressed concern over the ACS, the criteria the FAA is finalizing takes into account circling procedures in the ACS. The fourth criteria, which asks whether cancellation will result in all circling minima being removed from all airports within 20 NMs, should ensure that there are sufficient circling procedures for pilot training and testing.

One individual expressed concern that economic, environmental and air traffic management impacts of removing the circling approaches needs to be considered in this policy. The individual also recommended that IFR use over the last several years be evaluated and included as part of the policy.

The FAA has invested significant resources in the infrastructure of the NAS pertaining to IFPs, and a significant portion of those resources have resulted in an increased number of NextGen IFPs. Because of this, the IFP inventory is at an unsustainable level given the current and projected resources needed to maintain IFPs. Also, the criteria outlined in the proposed policy is a result of a collaborative effort between the FAA and aviation industry stakeholders to accomplish a reduction in the number of circling procedures while considering the very concerns expressed by the individual. One of the guiding principles adopted by the TOC Task Group in considering their recommendations for this effort was that IFP utilization was determined not to be a valid stand-alone criterion, as usage data can be inaccurate or unavailable in some cases and does not necessarily reflect the operational value of an IFP. The proposed criteria are only a foundation for identifying procedures for cancellation and is not sole justification for any IFP being cancelled. Once a procedure is identified and proposed for cancellation, and that proposal is posted on the IFP Gateway, stakeholders will have the opportunity to present their justification for retaining that procedure, and each justification will be considered and adjudicated before a determination is made to either retain or cancel that procedure.

One individual stated that the proposed policy does not account for convenience and efficiency, and provided an example of the VOR-A at MOTON FIELD MUNI (K06A). The individual also asked the FAA to add the following to the criteria:

• Does circling allow the pilot to access runways not served by other IAPs?

• Does the existing approach allow the pilot to approach the field and/or access the runway more directly than the alternative straight in approaches?

• Are sufficient alternatives available so that the removal of this circling approach will not force pilots to fly significantly further to access each runway when considering all possible arrival sectors and winds?

• Would removing this circling approach cause harm by forcing pilots to fly further to access straight in approaches?

As stated previously, the proposed policy could minimally impact accessibility to some airports, but the current inventory of IFPs is not sustainable. The proposed policy is intended to minimize IFP redundancy currently present in the NAS, and convenience and efficiency could be impacted at some airports. However, convenience and efficiency have also been significantly enhanced at numerous airports with the implementation of NextGen IFPs, so the commenter's assertion would need to be considered for each specific IFP and each airport with consideration given to the IFP enhancements made at that airport over the last several years. As noted, the public will have an opportunity to provide comment on a proposed cancellation of a specific IFP prior to its cancellation.

The K06A VOR-A is a good example of the IFP redundancy that currently exists within the NAS, as it highlights the investment of resources in NextGen IFPs. At this particular airport, K06A, two RNAV (GPS) IAPs have been installed—one for each runway end. Both of the NextGen approaches have circling minima as good as or better than the minima offered by the VOR-A. Additionally, both of the NextGen IAPs have straight-in minima substantially better than the circling minima offered by the VOR-A, and yet the commenter points out that the VOR-A is useful because the NextGen IAPs add significant distance (time and fuel) to “shoot those approaches from the north or south.” The FAA notes that NextGen IAPs can also be used to approach from a particular direction, east in the commenter's comment, then circle to land on the appropriate runway if needed. Additionally, straight-in approaches with circling minima are viable IAPs for circling to other runways at that airport in accordance with any circling restrictions noted on the associated IAP.

Regarding the additional questions the commenter recommended adding to the criteria, the first criterion request is unnecessary as the FAA's proposed criteria prevents the cancellation of all circling procedures at an airport, so runways currently accessible via circling will remain accessible. For the other 3 criteria recommendations from the commenter, all users will be able to provide justification for objecting to the cancellation of specific circling procedures once a particular circling procedure has been proposed for cancellation and publicized on the IFP Gateway, and those objections will be adjudicated on their own merits. Additionally, the commenter's terms “more directly”, “significantly further”, and “cause harm” are both subjective and ambiguous, and do not provide measurable elements with which to determine a specific procedure's necessity and/or value.

One individual expressed their approval of the proposed policy and expressed their opinion, based upon their stated aviation experience, that circle-to-land maneuvers are dangerous as they can lead to task saturation. The commenter also supported the proposed criteria that ensures at least one circling procedure remains at airports that currently have a circling procedure.

The FAA appreciates the commenter's support of this initiative, but also recognizes the need and purpose for circling procedures in the NAS. While circling maneuvers may involve unique requirement for aviators and air traffic control specialists, it is something that is accounted for in training requirements and, as such, is not considered dangerous. The FAA recognizes that unique situations and conditions could warrant a circling approach, and the design criteria for circling approaches reflects that.

One individual expressed concern regarding their inability to utilize RNAV (GPS) IFPs due to their lack of ADS-B equipage at this time, and the only non-NextGen IAP at their home airport, CLARENCE E. PAGE MUNI (KRCE), is the VOR-B.

The FAA notes that this particular approach would not be considered for cancellation as part of this policy due to it not meeting the criteria that states, “Would cancellation result in removal of circling minima from all conventional NAVAID procedures at an airport?” Because the cancellation of the KRCE VOR-B would result in the cancellation of circling minima from all conventional NAVAID procedures at KRCE, it would not be considered for cancellation as part of this policy.

One individual expressed concerns pertaining to the safety critical nature of circling minima for piston aircraft due to the ability to remain in closer proximity to an airport than when using “direct RNAV approaches,” and cited “deteriorating weather, possible icing, and thunder storm conditions” as justification for retention of circling minima. The individual's assertions lack sufficient details and specifics for the FAA to provide an informed response. Accounting for every possible situation and condition of flight with flight procedures is not practical. Both circling maneuvers and straight-in maneuvers are evaluated using the same criteria and one is not safer than the other is. Access to airports is a separate issue and should be raised to the airport owner/operator and Air Traffic Control through comments submitted after notification of a candidate procedure for cancellation under this program.

One individual requested the following criteria to assure that the FAA maintains or improves the access to the airport, stating that access to a candidate location should never be reduced in the interest of process efficiency:

• Availability of SBAS approach procedure to the intended landing runway in lieu of the circle approach to provide direct access to that runway

• If SBAS and ground based navigation is available at that facility the circling minima for the ground based approach should be retained to allow facility access in the event that GPS availability is degraded or not available

As previously stated, this IFP reduction effort could impact access at some airports, but the criteria in this policy are in agreement with the PBN NAS Navigation Strategy effort. The addition of NextGen IFPs at airports across the country has substantially improved access at numerous airports, which significantly offsets and frequently outweighs claims of circling procedure cancellations resulting in reduced access to airports. The transition to a predominantly NextGen NAS requires a reduction in ground-based IFPs and infrastructure as outlined in the VOR MON Final Policy Statement published in the Federal Register July 26, 2016. VOR MON policy specifically states, “The MON will enable pilots to revert from Performance Based Navigation (PBN) to conventional navigation for approach, terminal and en route operations in the event of a GPS outage and supports the NAS transition from VOR-based routes to a more efficient PBN structure consistent with NextGen goals and the NAS Efficient Streamlined Services Initiative.” In accordance with VOR MON, NextGen, NAS Efficient Streamlined Services Initiative, and PBN NAS Navigation Strategy, conventional navigation services for approach, terminal and en route operations will be minimized in a strategic manner consistent with these initiatives.

One individual recommended additional criteria to take into consideration nearby “high volume airports” when considering the cancellation of circling procedures, and the example of using the ILS OR LOC RWY 16 to circle to land RWY 34 at CHICAGO EXECUTIVE (KPWK), and its “close proximity to CHICAGO OHARE INTL (KORD)” as an example. The criteria requested by the individual states, “Would the potential cancelling of the circling minimums involve an airport that is in close proximity to a high volume airport, impact safety, procedures or encounter delays?”

In the commenter's example, the ILS OR LOC RWY 16 at KPWK would retain its circling minima in accordance with the FAA's proposed policy's criteria, “Would cancellation result in removal of circling minima from all conventional NAVAID procedures at an airport? Note: If circling minima exists for multiple Conventional NAVAID procedures, preference would be to retain ILS circling minima.”

Regarding the criteria proposed by the individual, circling procedures are being reviewed at every U.S. airport that has instrument approach procedures. ATC's involvement via notification from the Operations Support Group (Flight Procedures Team) will allow them ample opportunity to prevent the cancellation of circling procedures they deem necessary to their operations, and public notification, via the IFP Gateway, will allow the public ample opportunity to communicate concerns regarding the proposed cancellation of any circling procedure.

IV. Statement of Policy

Based on the comments received, the FAA is finalizing the following policy regarding the criteria and process for the cancellation of standard instrument approach procedures as Part of the national procedures assessment as follows:

All circling procedures will continue to be reviewed through the established IAP periodic review process.⁶ As part of that review process, each circling procedure will be evaluated against the following questions:

⁶ Section 2-8 of FAA Order 8260.19 (Flight Procedures and Airspace) sets forth the minimum frequency of review of instrument procedures.

• Is this the only IAP at the airport?

• Is this procedure a designated MON airport procedure?

• If multiple IAPs serve a single runway end, does this procedure provide the lowest circling minima for that runway? ⁷ Note: If the RNAV circling minima is not the lowest, but is within 50′ of the lowest, the FAA would give the RNAV preference.

⁷ This criterion has been slightly reworded for clarity.

• Would cancellation result in removal of circling minima from all conventional NAVAID procedures at an airport? Note: If circling minima exists for multiple Conventional NAVAID procedures, preference would be to retain ILS circling minima.

• Would cancellation result in all circling minima being removed from all airports within 20 NMs? This particular criterion recognizes the circling content of the Instrument Rating—Airplane Airman Certification Standards (ACS).

• Will removal eliminate lowest landing minima to an individual runway?

The following questions are applicable only to circling-only procedures:

• Does this circling-only procedure exist because of high terrain or an obstacle which makes a straight-in procedure infeasible or which would result in the straight-in minimums being higher than the circling minima?

• Is this circling-only procedure (1) at an airport where not all runway ends have a straight-in IAP, and (2) does it have a Final Approach Course not aligned within 45 degrees of a runway which has a straight-in IAP?

Further consideration for cancellation under this policy will be terminated if any of the aforementioned questions are answered in the affirmative. If all questions are answered in the negative, the procedure will be processed as described in the following paragraph.

When a candidate has been identified for cancellation, Aeronautical Information Services will post the proposed cancellation on the Instrument Flight Procedures Information Gateway (IFP Gateway) (https://www.faa.gov/air_traffic/flight_info/aeronav/procedures/) and send a notification of procedure cancellation memorandum and completed checklist (see attached NPA Checklist Sample) to the appropriate Regional Service Area, Operations Support Group.⁸ The Regional Service Area, Operations Support Group will follow the same notification process used for standard IFP requests.⁹ Comments regarding the aforementioned circling procedure should be submitted via email to: AMC-ATO-IFP-Cancellations@faa.gov. Comments will only be considered and adjudicated when submitted prior to the comment deadline associated with the flight procedure as listed on the IFP Coordination tab of the Instrument Flight Procedures Information Gateway site. Aeronautical Information Services will adjudicate and respond to each comment within 30 days of being received. When a determination is made to cancel a part 97 instrument flight procedure or circling line of minima, the cancellation will be published in the Federal Register.

⁸ The FAA has placed sample copies of the memorandum and checklist into the docket for this document.

⁹ FAA Order 8260.43 (Flight Procedures Management Program) and FAA Order 8260.26 (Establishing Submission Cutoff Dates for Civil Instrument Procedures) contain additional information on this process. These orders are available on the FAA website.

Issued in Oklahoma City, Oklahoma, on June 21, 2018.
Gary Powell,
Director, Aeronautical Information Services.

[FR Doc. 2018-13875 Filed 6-27-18; 8:45 am]

BILLING CODE 4910-13-P